DEPARTMENT OF THE INTERIOR

Fish and Wildlife Service

Endangered and Threatened Species Permit Applications

ACTION: Notice of receipt of permit applications.

SUMMARY: The following applicants have applied for a scientific research permit to conduct certain activities with endangered species pursuant to section 10(a)(1)(A) of the Endangered Species Act of 1973, as amended (16 U.S.C. 1531, et seq.).

Permit No. TE-038608

Applicant: USGS-BRD Sonoran Desert Field Office, Tucson, Arizona.

Applicant requests authorization to conduct surveys for the cactus ferruginous pygmy-owl (Glaucidium brasilianum cactorum), Mexican spotted owl (Strix occidentalis lucida), southwestern willow flycatcher (Empidonax traillii extimus), Yuma clapper rail (Rallus longirostris yumanensis), lesser long-nosed bat (Leptonycteris curasoae yerbabuenae), Mexican gray wolf (Canis lupis baileyi), ocelot (Felis pardalis), and jaguar (Panthera onca) within Arizona and New Mexico.

Permit No. TE-009926

Applicant: Gulf South Research Corporation, Baton Rouge, Louisiana.

Applicant requests renewal of existing permit to continue to conduct presence/absence surveys for the interior least tern (Sterna antillarum athalassos) along the Red River within Texas and Oklahoma.

Permit No. TE-039144

Applicant: USDA—Natural Resources Conservation Service, Albuquerque, New Mexico.

Applicant requests authorization to conduct presence/absence surveys for the southwestern willow flycatcher (Empidonax traillii extimus) within New Mexico.

Permit No. TE-827369

Applicant: John Russell “Rusty” Mase, Austin, Texas.

Applicant requests re-issuance of an expired permit for authorization to conduct presence/absence surveys for the golden-cheeked warbler (Dendroica chrysoparis) and Houston toad (Bufo houstonensis).

Permit No. TE-038694

Applicant: Jack Childs, Tucson Arizona.

Applicant requests authorization to conduct surveys for the jaguar (Panthera onca) using scented hair snares in southern Arizona.

Permit No. TE-037155

Applicant: Bio/West, Inc., Logan, Utah.

Applicant requests authorization to conduct surveys for the fountain darter (Etheostoma fonticola), San Marcos gambusia (Gambusia georgei), San Marcos salamander (Eurycea nana), Comal Springs riffle beetle (Heterelmis comalensis), Comal Springs dryopid beetle (Stygoparnus comalensis), Peck's Cave amphipod (Sygobromus pecki), and Texas wild-rice (Zizania texana).

Permit No. TE-819491

Applicant: Ecosphere Environmental Services, Durango, Colorado.

Applicant requests authorization to conduct presence/absence surveys for the southwestern willow flycatcher (Empidonax traillii extimus) within New Mexico.

Permit No. TE-010927

Applicant: Bat Conservation International.

Applicant requests authorization to capture and radio-track Mexican long-nosed bats (Leptonycteris nivalis) in Texas.

Permit No. TE-676811

Applicant: Regional Director, Region 2, U.S. Fish and Wildlife Service, Albuquerque, New Mexico.

Applicant requests an amendment to an existing permit to add the following nine karst invertebrates located in Bexar County, Texas: Helotes mould beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names.

DATES: Written comments on these permit applications must be received on or before March 30, 2001.

ADDRESSES: Written data or comments should be submitted to the Chief, Endangered Species Division, Ecological Services, P.O. Box 1306, Room 4102, Albuquerque, New Mexico 87103; Fax (505) 248-6788. Documents will be available for public inspection by written request, by appointment only, during normal business hours (8 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Stephen C. Helfert,
Assistant Regional Director, Ecological Services, Region 2, Albuquerque, New Mexico.

[FR Doc. 01-4829 Filed 2-27-01; 8:45 am]

BILLING CODE 4310-55-P